INTERNATIONAL TRADE COMMISSION

[Inv. No. 337-TA-427]

In the Matter of Certain Downhole Well Data Recorders and Components Thereof; Notice of a Commission Determination Not To Review an Initial Determination Terminating the Investigation on the Basis of a Settlement Agreement

AGENCY: U.S. International Trade Commission.

ACTION: Notice.

SUMMARY: Notice is hereby given that the U.S. International Trade Commission has determined not to review the presiding administrative law judge's (“ALJ's”) initial determination (“ID”) granting a joint motion to terminate the above-captioned investigation on the basis of a settlement agreement.

FOR FURTHER INFORMATION CONTACT: Timothy P. Monaghan, Esq., Office of the General Counsel, U.S. International Trade Commission, telephone (202) 205-3152.

SUPPLEMENTARY INFORMATION: The Commission instituted this investigation on February 1, 2000, based on a complaint by Petroleum Reservoir Data, Inc. (“Petredat”) alleging that respondents Halliburton Company (“Halliburton”) and Spartek Systems (“Spartek”) violated section 337 of the Tariff Act of 1930, as amended, 19 U.S.C. 1337, by importing, selling for importation, or selling within the United States after importation certain downhole well data recorders and components thereof that infringe certain claims of U.S. Letters Patent 5,130,705.

On March 23, 2000, Petredat, Halliburton, and Spartek entered into a settlement agreement, which included an agreement to file a joint motion to terminate the Commission investigation. On May 19, 2000, complainant Petredat and respondents Halliburton and Spartek filed the joint motion to terminate the investigation, which motion was supported by the Commission investigative attorney.

On May 30, 2000, the presiding ALJ issued an ID (Order No. 8) granting the motion to terminate the investigation on the basis of the settlement agreement. None of the parties filed a petition to review the subject ID. The Commission subsequently determined not to review the subject ID.

This action is taken under the authority of section 337 of the Tariff Act of 1930, as amended, 19 U.S.C. § 1337, and Commission rule 210.42, 19 CFR § 210.42. Copies of the public version of the ALJ's ID and all other nonconfidential documents filed in connection with this investigation are or will be available for inspection during official business hours (8:45 a.m. to 5:15 p.m.) in the Office of the Secretary, U.S. International Trade Commission, 500 E Street, S.W., Washington, D.C. 20436, telephone 202-205-2000. Hearing-impaired persons are advised that information on this matter can be obtained by contacting the Commission's TDD terminal on 202-205-1810. General information concerning the Commission may also be obtained by accessing its Internet server (http://www.usitc.gov).

By order of the Commission
Issued: June 26, 2000.
Donna R. Koehnke,
Secretary.

[FR Doc. 00-16591 Filed 6-29-00; 8:45 am]

BILLING CODE 7020-02-P